DEPARTMENT OF EDUCATION

[Docket ID Number ED-2019-IES-0017]

Proposed Priorities for the Institute of Education Sciences and Request for Comment

AGENCY: Institute of Education Sciences, U.S. Department of Education.

ACTION: Notice.

SUMMARY: The Director of the Institute of Education Sciences (IES) proposes priorities to guide IES' work and provides a 60-day period for members of the public to review and comment on them. When the Director submits the priorities to the National Board for Education Sciences (the Board) for its approval, all comments received in response to this notice will be provided as well.

DATES: We must receive your comments on or before May 28, 2019.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Help.”

• Postal Mail, Commercial Delivery, or Hand Delivery: The Department strongly encourages commenters to submit their comments electronically. However, if you mail or deliver your comments about the proposed priorities, address them to Dr. Mark Schneider, Director, Institute of Education Sciences, U.S. Department of Education, 400 Maryland Ave SW, Room 4109, Potomac Center Plaza, Washington, DC 20202.

Privacy Note: The Department's policy is to make comments received from members of the public available for public viewing on the Federal eRulemaking Portal at www.regulations.gov. Therefore, commenters should be careful to include in their comments only information that they wish to make publicly available.

FOR FURTHER INFORMATION CONTACT: Teresa Cahalan at (202) 245-7299 or by email at: teresa.cahalan@ed.gov.

If you use a telecommunications device for the deaf (TDD) or a text telephone (TTY), call the Federal Relay Service (FRS), toll free, at 1-800-877-8339.

SUPPLEMENTARY INFORMATION: Invitation to Comment: We invite you to submit comments regarding the proposed priorities. To ensure that your input has maximum effect, we urge you to identify clearly the portion of the proposed priorities that your comment addresses.

During and after the comment period, you may inspect all public comments about this notice in 550 12th St SW, Room 4126, Washington, DC, between the hours of 8:30 a.m. and 4:00 p.m., Eastern Time, Monday through Friday of each week except Federal holidays.

Assistance to Individuals with Disabilities in Reviewing the Comments: On request, we will supply an appropriate accommodation or auxiliary aid to an individual with a disability who needs assistance to review the comments or other documents related to this notice. If you want to schedule an appointment for this type of accommodation or auxiliary aid, please contact the person listed under FOR FURTHER INFORMATION CONTACT.

Program Authority: Education Sciences Reform Act of 2002 (20 U.S.C. 9515)

Proposed Priorities for the Institute of Education Sciences

Background: The Education Sciences Reform Act of 2002 (20 U.S.C. 9515) requires the Director of IES to propose to the Board priorities for IES—that is, topics that require long-term research and are focused on understanding and solving education problems and issues. Such topics may include those associated with the goals and requirements of the Elementary and Secondary Education Act of 1965, as amended, the Individuals with Disabilities Education Act, as amended, and the Higher Education Act of 1965, as amended, such as closing the achievement gap; ensuring that all children have the ability to obtain a high-quality education and reach, at a minimum, proficiency on State standards and assessments; and ensuring access to, and opportunities for, postsecondary education.

Before submitting proposed priorities to the Board, the Director must make the priorities available to the public for comment for not less than 60 days and provide each comment submitted to the Board. The Board must approve or disapprove the priorities for IES proposed by the Director, including any necessary revision of the priorities. Once approved, the Board will transmit the priorities to the appropriate congressional committees.

Mission

By its authorizing legislation, IES is charged with supporting research, conducting evaluations, and gathering statistics to improve the academic achievement and the access to high-quality education of all learners from early childhood to adulthood. As an applied science agency, IES seeks to translate its work into useful and usable information that can be accessed by a wide range of stakeholders.

Overview

• In pursuit of its goals, IES supports research, conducts evaluations, and gathers statistics that conform to rigorous scientific standards.

• To ensure education programs and policies are evidence based, IES disseminates and promotes the use of research in ways that are objective, unbiased, and accessible.

• By furthering the transformation of education into an evidence-based field, IES enables the Nation to educate learners across the lifespan cost effectively.

Goals

• To gather educational statistics that provide information on schools, teachers, and learners across the Nation and serve as a foundation for education science research.

• To develop and identify programs, practices, and policies that enhance learner achievement and that can be widely deployed.

• To better measure and understand the variation in the effectiveness of education programs, practices, and policies.

• To help identify the activities that best fit with schools and learners characterized by different economic and social attributes and different learning needs.

• To better measure the cost and cost-effectiveness of education interventions;

• To disseminate the results of scientifically valid research, statistics, and evaluations in ways that are accessible, understandable, and usable in the improvement of educational practice by teachers and other educators, parents and families, learners, administrators, researchers, policymakers, and the public.

Standards for Excellence in Education Research

To increase the quality and usefulness of education research, IES promotes, encourages, and supports the use of the Standards for Excellence in Education Research (SEER), which is available at https://ies.ed.gov/seer.asp. Under SEER, as appropriate for a particular research program, researchers:

• Preregister their studies.

• Make their data and methods openly available.

• Identify the core components of interventions.

• Document implementation.

• Focus on meaningful outcomes.

• Analyze costs and calculate the cost-effectiveness of interventions.

• Have a strategy for scaling up.

In furtherance of these goals, IES has the following specific priorities:

A Focus on Outcomes

• At infancy, toddler, and preschool levels, key measures include:

○ Readiness for schooling; and

○ Developmental outcomes for infants and toddlers with or at risk for disabilities.

• At kindergarten through 12th grade, key measures include:

○ Higher achievement in reading, writing, science, technology, engineering, and math;

○ Improvement in other indicators of achievement besides student performance on assessments, such as annual student attendance and retention rates and, where applicable and available, student academic growth, high school graduation rates, and postsecondary enrollment and persistence rates.

○ Improvement in non-academic outcomes such as, but not limited to, parent satisfaction, school climate, student mental health, and civic engagement.

○ Improved teaching and learning;

○ Improved behaviors and social skills that support learning in school and successful transitions; and

○ Functional outcomes that improve success in school and transitions to employment, independent living, and postsecondary education for students with disabilities.

• At the postsecondary level, key measures include:

○ Enrollment in, and completion of, programs that prepare learners for successful careers and lives;

○ Family sustaining wages post-completion;

○ Improved teaching and learning; and

○ Acquisition of skills by adults.

Increasing Dissemination and Use

• Increase outreach to teachers and other educators, parents and families, learners, administrators, researchers, policymakers, and the public using both traditional and new media.

• Enhance the experience of What Works Clearinghouse users, adding features that make its reviews more useful and usable.

• Increase the number of What Works Clearinghouse Practice Guides and Intervention Reports, ensuring that they are written in an accessible manner and supported by material that increases the use of this information.

• Develop and refine education research methods including new methods that take advantage of large administrative data sets and increased computing power.

• Expand the use of research using longitudinal data sets.

• Invest in postsecondary programs that develop a pipeline of talented education researchers, especially programs that include apprenticeships in education agencies.

• Encourage partnerships between researchers and private companies, both non-profit and for-profit, to put interventions that work into more schools and in the hands of more teachers, parents and families, and learners.

Accessible Format: Individuals with disabilities can obtain this document in an accessible format (e.g., braille, large print, audiotape, or compact disc) on request to the person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schneider,
Director, Institute of Education Sciences.

[FR Doc. 2019-05970 Filed 3-27-19; 8:45 am]

BILLING CODE 4000-01-P